DEPARTMENT OF ENERGY

Federal Energy Regulatory Commission

[Project No. 14787-004]

Black Canyon Hydro, LLC; Notice of Application Tendered for Filing With the Commission, Requesting Cooperating Agencies, and Soliciting Additional Study Requests

Take notice that the following hydroelectric application has been filed with the Commission and is available for public inspection.

a. Type of Filing: Original major license.

b. Project No.: 14787-004.

c. Date Filed: January 18, 2023.

d. Submitted By: rPlus Hydro, LLLP, on behalf of Black Canyon Hydro, LLC (Black Canyon Hydro).

e. Name of Project: Seminoe Pumped Storage Project.

f. Location: The project would be located at the Bureau of Reclamation's Seminoe Reservoir on the North Platte River in Carbon County, Wyoming, approximately 35 miles northeast of Rawlings, Wyoming. The project would occupy 820.62 acres of land managed by the Bureau of Land Management and 52.89 acres managed by the Bureau of Reclamation.

g. Filed Pursuant to: Federal Power Act 16 U.S.C.791(a)-825(r).

h. Applicant Contact: Lars Dorr, Program Manager for rPlus Hydro, LLLP, Address: Black Canyon Hydro, LLC c/o rPlus Hydro, LLLP, 201 S Main St., Suite 2100, Salt Lake City, Utah 84111. Phone: (801) 456-1575; (858) 925-3743.

i. FERC Contact: Michael Tust at (202) 502-6522; or email at michael.tust@ferc.gov.

j. Determination under the Fixing America's Surface Transportation Act (FAST-41): On January 19, 2023, the project sponsor submitted a FAST-41 Initiation Notice to the Federal Permitting Improvement Steering Council for the proposed project. On February 2, 2023, Commission staff determined that the proposed project qualifies as a covered project under FAST-41, as is defined in 42 U.S.C. 4370m(6).

k. Cooperating agencies: Under 42 U.S.C. 4370m-2(a)(2)(A), as the lead agency, the Commission is required to: (1) identify all federal and non-federal agencies and governmental entities likely to have financing, environmental review, authorization, or other responsibilities with respect to the project; and (2) invite all federal agencies under (1) to become a cooperating or participating agency, as appropriate. Commission staff have identified the Bureau of Reclamation, Bureau of Land Management, U.S. Fish and Wildlife Service, U.S. Army Corps of Engineers, Western Area Power Administration, Wyoming Department of Environmental Quality, Wyoming Game & Fish Department, and Wyoming State Historic Preservation Office as the relevant agencies under (1) above. With this notice, we invite the Bureau of Reclamation, Bureau of Land Management, U.S. Fish and Wildlife Service, U.S. Army Corps of Engineers, and Western Area Power Administration to be cooperating agencies under (2) above. Under 42 U.S.C. 4370m-2(a)(3)(A), each invited federal agency above will be designated as a cooperating agency unless the agency responds in writing to the Commission and the Executive Director of the Federal Permitting Improvement Steering Council within 14 days of this notice stating that the agency: (1) has no jurisdiction or authority with respect to the proposed project; or (2) does not intend to exercise authority related to, or submit comments on, the proposed project.

The federal agencies invited to cooperate above and any other federal, state, local, and tribal agencies with jurisdiction and/or special expertise with respect to environmental issues that wish to cooperate in the preparation of the environmental document should follow the filing instructions described in item m below. Cooperating agencies should note the Commission's policy that agencies that cooperate in the preparation of the environmental document cannot also intervene. See 94 FERC ¶ 61,076 (2001).

l. Pursuant to section 4.32(b)(7) of 18 CFR of the Commission's regulations, if any resource agency, Native-American Tribe, or person believes that an additional scientific study should be conducted in order to form an adequate factual basis for a complete analysis of the application on its merit, the resource agency, Native-American Tribe, or person must file a request for a study with the Commission not later than 60 days from the date of filing of the application, and serve a copy of the request on the applicant.

m. Deadline under 42 U.S.C. 4370m-2(a)(2)(B) for responses from the specific federal agencies invited to cooperate in item k: February 16, 2023.

Deadline for filing additional study requests and deadline for agencies, other than the specific federal agencies invited to cooperate in item k, to file requests for cooperating agency status: March 19, 2023.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Seminoe Pumped Storage Project (P-14787-004).

n. The application is not ready for environmental analysis at this time.

o. The proposed pumped storage project would use the Bureau of Reclamation's Seminoe Reservoir as its lower reservoir and the following existing facilities: an approximately 3.35-mile-long maintenance road for accessing the upper reservoir site and an approximately 0.5-mile-long maintenance road adjacent to the eastern shoreline of Seminoe Reservoir that would be used for accessing facilities connected to Seminoe Reservoir. Both of these roads are currently used to maintain Western Area Power Administration transmission lines and would be modified to accommodate larger construction vehicles. The project would also involve constructing the following new facilities: (1) a 8,498-foot-long roller-compacted concrete water-retaining structure that would create a 114-acre upper reservoir which would be lined to reduce leakage and would be surrounded by a 10-foot-high chain and rail security fence; (2) a 200-foot-long concrete ogee emergency spillway incorporated into the upper reservoir capable of directing emergency spill flows down a stepped spillway into a stilling basin and then down a natural gulley and into the Bureau of Reclamation's Kortes Reservoir; (3) a water conveyance tunnel system connecting the new upper reservoir with Seminoe Reservoir that consists of the following structures: (a) a 2,756-foot-long D-shaped concrete-lined belowground headrace tunnel; (b) a 615-foot-long steel aboveground conduit section across a gully that is supported by concrete piers; (c) a 30-foot-diameter, 1,225-foot-long concrete-lined belowground vertical shaft; (d) a 30-foot-diameter, 123-foot-long concrete-lined belowground high pressure tunnel connected to a manifold and three separate 17-foot-diameter concrete and steel-lined belowground penstocks with lengths of 330 feet, 247 feet, and 165 feet; (e) three concrete and steel-lined 17.5-foot-diameter belowground draft tube extensions with lengths of 140 feet, 103 feet, and 85 feet connected to a manifold; (f) a 36-foot-diameter, 232-foot-long belowground surge chamber; and (g) a 31-foot-diameter, 4,070-foot-long belowground tailrace tunnel; (4) a 460-foot-long, 80-foot-wide, 142-foot-high belowground powerhouse containing three 324-megawatt Francis pump-turbines and three generator-motors; (5) three busbar galleries approximately 170-feet-long leading to a 413-foot-long, 71-foot-wide, 113-foot-high belowground transformer cavern containing three-phase step-up transformers and a switchgear switchyard; (6) two 500-kilovolt circuits connecting from the switchgear through a 765-foot-long belowground tunnel to a vertical cable shaft that emerges aboveground; (7) two separate 30-mile-long, 500-kilovolt overhead transmission lines that connect to the grid at the existing Aeolus substation; (8) a new 40-foot-wide bridge crossing over the Seminoe Dam tailrace on the North Platte River that connects Morgan Creek Road on the left side of the river to a main access tunnel portal on the right side of the river to provide access to the powerhouse; (9) two other secondary tunnels for accessing the lower reservoir intake and surge shaft; and (10) appurtenant facilities. Additionally, two existing Western Area Power Administration transmission lines that currently cross the new upper reservoir site would be relocated.

The water used to initially fill the new upper reservoir and provide make-up water would come from Seminoe Reservoir. The initial volume of water necessary to fill the upper reservoir is estimated to be 13,300 acre-feet and would be filled over a two- to four-week period. It is estimated that the project would need approximately 272 acre-feet of water each year to replenish water lost through evaporation and seepage. Once the upper reservoir is filled, approximately 10,800 acre-feet could be cycled between the upper reservoir and Seminoe Reservoir each day. The project is designed to generate electricity on demand for up to 9.7 hours each day at the maximum generating capacity. The estimated annual generation is 2,916 gigawatt-hours per year.

p. In addition to publishing the full text of this document in the Federal Register, the Commission provides all interested persons an opportunity to view and/or print the contents via the internet through the Commission's Home Page (http://www.ferc.gov) using the “eLibrary” link. Enter the docket number excluding the last three digits in the docket number field to access the document. For assistance, contact FERC at FERCOnlineSupport@ferc.gov or call toll-free, (866) 208-3676 or TYY, (202) 502-8659.

You may also register online at https://ferconline.ferc.gov/FERCOnline.aspx to be notified via email of new filings and issuances related to this or other pending projects. For assistance, contact FERC Online Support.

q. Procedural schedule: Consistent with the requirements in FAST-41, a procedural schedule for processing the license application will be developed in consultation with the relevant agencies and subsequently posted to the docket.

r. Final amendments to the application must be filed with the Commission no later than 30 days from the issuance date of the notice of ready for environmental analysis

Dated: February 2, 2023.
Kimberly D. Bose,
Secretary.

[FR Doc. 2023-02643 Filed 2-7-23; 8:45 am]

BILLING CODE 6717-01-P